DEPARTMENT OF COMMERCE

Foreign-Trade Zones Board

[Docket 16-2012]

Foreign-Trade Zone 148—Knoxville, TN; Application for Reorganization Under Alternative Site Framework

An application has been submitted to the Foreign-Trade Zones (FTZ) Board (the Board) by the Industrial Development Board of Blount County and the Cities of Alcoa and Maryville, Tennessee, grantee of FTZ 148, requesting authority to reorganize the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on March 13, 2012.

FTZ 148 was approved by the Board on June 28, 1988 (Board Order 384, 53 FR 26095, 07/11/1988) and expanded on August 21, 2003 (Board Order 1294, 68 FR 52385, 09/03/2003) and October 6, 2006 (Board Order 1481, 71 FR 61017-61018, 10/17/2006).

The current zone project includes the following sites: Site 1 (0.61 acres)—McGhee Tyson Airport, State Route 129, Alcoa; Site 2 (42 acres)—Colinx LLC warehousing facility, 1536 Genesis Road, Crossville; Site 3 (190 acres)—Partnership Park South, 1731 Fred Lawson Lane, Maryville; Site 4 (13 acres)—within the 15-acre Heritage Center Technology Park and adjacent Tennessee Technology Park, 1065 West Perimeter Road and 2010 Highway 58, Oak Ridge; Site 5 (71 acres, 2 parcels) within the Eagle Bend Industrial Park, 350 J.D. Yarnell Industrial Parkway, Clinton; Site 6 (6 acres)—CoLinx LLC warehouse facility, 712 Interchange Drive, Crossville; and, Site 7 (5.7 acres)—CoLinx LLC warehouse facility, 704 and 732 Industrial Boulevard, Crossville.

The grantee's proposed service area under the ASF would include all of Anderson, Blount, Campbell, Claiborne, Cocke, Cumberland, Grainger, Jefferson, Knox, Loudon, Monroe, Morgan, Roane, Scott, Sevier and Union Counties, Tennessee, as described in the application. If approved, the grantee would be able to serve sites throughout the service area based on companies' needs for FTZ designation. The proposed service area is within and adjacent to the Knoxville U.S. Customs and Border Protection port of entry.

The applicant is requesting authority to reorganize its existing zone project to include existing Site 3, Site 4 and Site 5 as “magnet” sites. The ASF allows for the possible exemption of one magnet site from the “sunset” time limits that generally apply to sites under the ASF, and the applicant proposes that Site 3 be so exempted. The applicant is also requesting that existing Site 2, Site 6 and Site 7 be designated as usage-driven sites, and that existing Site 1 be removed from the zone project due to changed circumstances. Because the ASF only pertains to establishing or reorganizing a general-purpose zone, the application would have no impact on FTZ 148's authorized subzones.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is May 18, 2012. Rebuttal comments in response to material submitted during the foregoing period may be submitted during the subsequent 15-day period to June 4, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Christopher Kemp at Christopher.Kemp@trade.gov or (202) 482-0862.

Dated: March 13, 2012.
Andrew McGilvray,
Executive Secretary.

[FR Doc. 2012-6578 Filed 3-16-12; 8:45 am]

BILLING CODE P